DEPARTMENT OF HEALTH AND HUMAN SERVICES

National Institutes of Health

Submission for OMB Review; 30-Day Comment Request; Population Assessment of Tobacco and Health (PATH) Study—3rd Wave (NIDA)

SUMMARY: Under the provisions of Section 3507(a)(1)(D) of the Paperwork Reduction Act of 1995, the National Institutes of Health (NIH) has submitted to the Office of Management and Budget (OMB) a request for review and approval of the information collection listed below. This proposed information collection was previously published in the Federal Register on February 11, 2015, pages 7619-7620 and allowed 60-days for public comment. One public comment was received. The purpose of this notice is to allow an additional 30 days for public comment. The National Institute on Drug Abuse (NIDA), National Institutes of Health may not conduct or sponsor, and the respondent is not required to respond to, an information collection that has been extended, revised, or implemented on or after October 1, 1995, unless it displays a currently valid OMB control number.

Direct Comments to OMB: Written comments and/or suggestions regarding the item(s) contained in this notice, especially regarding the estimated public burden and associated response time, should be directed to the: Office of Management and Budget, Office of Regulatory Affairs, OIRA_Submission@omb.eop.gov or by fax to (202) 395-6974, Attention: NIH Desk Officer.

DATES: Comment Due Date: Comments regarding this information collection are best assured of having their full effect if received within 30 days of the date of this publication.

FOR FURTHER INFORMATION CONTACT: To obtain a copy of the data collection plans and instruments or request more information on the proposed project, contact: Dr. Kevin P. Conway, Deputy Director, Division of Epidemiology, Services, and Prevention Research, NIDA, NIH, 6001 Executive Boulevard, Room 5185, Rockville, MD 20852; or call non-toll-free number (301) 443-8755 or Email your request, including your address to: PATHprojectofficer@mail.nih.gov. Formal requests for additional plans and instruments must be requested in writing.

Proposed Collection: Population Assessment of Tobacco and Health (PATH) Study—Third Wave of Data Collection—0925-0664—Revision, National Institute on Drug Abuse (NIDA), National Institutes of Health (NIH), in partnership with the Food and Drug Administration (FDA).

Need and Use of Information Collection: This is a revision request (OMB 0925-0664, expires 9/30/2016) for the Population Assessment of Tobacco and Health (PATH) Study to conduct the third wave of data collection. The PATH Study is a national longitudinal cohort study of tobacco use behavior and health among the U.S. household population of adults age 18 and older and youth ages 12 to 17. The Study conducts annual interviews and collects biospecimens from adults to assess within-person changes and between-person differences in tobacco-product use behaviors and related health conditions over time. Its longitudinal, population-based data will help to enhance the evidence base that informs FDA's regulatory actions under the Family Smoking Prevention and Control Act to protect the Nation's public health and reduce its burden of tobacco-related morbidity and mortality.

OMB approval is requested for 3 years. There are no costs to respondents other than their time. The total estimated annualized burden hours are 54,434.

Estimated Annualized Burden Hours
Form or activity name | Type of respondent | Number of respondents | Number of responses per respondent | Average burden per response (in hours) | Total annual burden hours
Adult Extended Interview | Adults | 25,444 | 1 | 1 | 25,444
Consent for Adult Extended Interview | Adults | 2,046 | 1 | 4/60 | 136
Adult Extended Interview (Aged-up) | Adults | 1,780 | 1 | 68/60 | 2,017
Consent for Biological Samples | Adults | 1,780 | 1 | 5/60 | 148
Biospecimen Collection: Urine | Adults | 13,805 | 1 | 10/60 | 2,301
Biospecimen Collection: Blood | Adults | 765 | 1 | 18/60 | 230
Tobacco Use Form | Adults | 14,570 | 1 | 5/60 | 1,214
Follow-up/Tracking Participant Information Form for Adults | Adults | 27,224 | 2 | 8/60 | 7,260
Youth Extended Interview | Youth | 9,625 | 1 | 35/60 | 5,615
Assent for Youth Extended Interview | Youth | 1,923 | 1 | 3/60 | 96
Youth Extended Interview (Aged-up) | Youth | 1,923 | 1 | 45/60 | 1,442
Parent Interview | Parents | 9,818 | 1 | 16/60 | 2,618
Parent Permission and Consent for Parent Interview | Parents | 2,161 | 1 | 5/60 | 180
Parent Interview (Aged-up) | Parents | 1,961 | 1 | 19/60 | 621
Verification Interview | Adults | 35,564 | 1 | 2/60 | 1,185
Validation Interview | Adults | 3,579 | 1 | 4/60 | 239
Follow-up/Tracking Participant Information Form for Youth | Parents | 11,548 | 2 | 8/60 | 3,079
Follow-up/Tracking Participant Information Form for Sample Shadow Youth | Parents | 2,282 | 2 | 8/60 | 609

Dated: June 12, 2015.
Genevieve deAlmeida-Morris,
Project Clearance Liaison, NIDA, NIH.

[FR Doc. 2015-14902 Filed 6-16-15; 8:45 am]

BILLING CODE 4140-01-P